DEPARTMENT OF STATE

[Public Notice: 7824]

The Designation of Jemmah Anshorut Tauhid (JAT), Also Known as Jemmah Ansharut Tauhid, Also Known as Jem'mah Ansharut Tauhid, Also Known as Jamaah Ansharut Tauhid, Also Known as Jama'ah Ansharut Tauhid, as a Foreign Terrorist Organization Pursuant to Section 219 of the Immigration and Nationality Act, as Amended

Based upon a review of the Administrative Record assembled in this matter and in consultation with the Attorney General and the Secretary of the Treasury, I conclude that there is a sufficient factual basis to find that the relevant circumstances described in section 219 of the Immigration and Nationality Act, as amended (hereinafter “INA”) (8 U.S.C. 1189), exist with respect to Jemmah Anshorut Tauhid, also known as Jemmah Ansharut Tauhid, also known as Jem'mah Ansharut Tauhid, also known as Jamaah Ansharut Tauhid, also known as Jama'ah Ansharut Tauhid.

Therefore, I hereby designate the aforementioned organization and its aliases as a Foreign Terrorist Organization pursuant to section 219 of the INA.

This determination shall be published in the Federal Register.

Dated: February 23, 2012.
Hillary Rodham Clinton,
Secretary of State.

[FR Doc. 2012-6045 Filed 3-12-12; 8:45 am]

BILLING CODE 4710-10-P